DEPARTMENT OF COMMERCE

National Oceanic and Atmospheric Administration

50 CFR Part 660

[Docket No. 221206-0261]

RIN 0648-BM97

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries. This action is intended to allow fishing vessels to access more abundant groundfish stocks while protecting rebuilding stocks.

DATES: This final rule is effective April 1, 2024.

ADDRESSES: Electronic Access: This rule is accessible at the Office of the Federal Register website at https://www.federalregister.gov. Background information and documents are available at the Pacific Fishery Management Council's website at https://www.pcouncil.org.

FOR FURTHER INFORMATION CONTACT: Dr. Sean Matson: 206-526-6187 or sean.matson@noaa.gov.

SUPPLEMENTARY INFORMATION:

Background

The Pacific Coast Groundfish Fishery Management Plan (PCGFMP) and its implementing regulations at title 50 in the Code of Federal Regulations (CFR), part 660, subparts C through G, regulate fishing for over 90 species of groundfish seaward of Washington, Oregon, and California. The Pacific Fishery Management Council (Council) develops groundfish harvest specifications and management measures for 2-year periods (biennia). NMFS published the final rule to implement harvest specifications and management measures for the 2023-2024 biennium for most species managed under the PCGFMP on December 16, 2022 (87 FR 77007). The management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its March 2024 meeting, the Council recommended inseason measures, modifying fixed gear regulations in the area south of lat. 40°10′ N, including within the Non-Trawl Rockfish Conservation Area (RCA) boundaries, and commercial fixed gear trip limits for certain species within the limited entry (LE) and open access (OA) fisheries, including lingcod, the other flatfish complex, and the minor shelf rockfish complex. The purpose of these inseason measures is to promote the conservation of quillback rockfish and vermillion/sunset rockfish off California, while balancing the economic benefits of fishing opportunity. The Council also recommended modifications to Federal regulations, concerning the portion of the California recreational fishery that falls within Federal waters, which include changes to season dates and depth limits, and revisions to the sub-bag limit for vermilion/sunset rockfish south of lat. 40°10′ N. The March recommendations were communicated in a letter to NMFS dated March 20, 2024.

The recommendations were based on analysis using newly available information on catch and attainment, and input from industry at the March meeting. Pacific Coast groundfish fisheries are managed using harvest specifications or limits (e.g., overfishing limits [OFL], acceptable biological catch [ABC], annual catch limits [ACL], and harvest guidelines [HG]) recommended biennially by the Council and based on the best scientific information available at that time (50 CFR 660.60(b)). During development of the harvest specifications, the Council also recommends management measures (e.g., trip limits, area closures, and bag limits) that are meant to control catch so as not to exceed the harvest specifications. The harvest specifications and management measures developed for the 2023-2024 biennium used data through the 2021 fishing year. Each of the adjustments to management measures discussed below are based on updated fisheries information that was unavailable when the analysis for the current harvest specifications was completed. As new fisheries data becomes available, adjustments to management measures are assessed and associated mortality is projected, so as to help harvesters achieve but not exceed the harvest limits.

Management Measures for Commercial Fixed Gear, LE and OA Fisheries

Non-Trawl RCA

At the March 2024 meeting, the Council recommended actions to reduce fishing mortality of quillback rockfish and vermillion/sunset rockfish, off California, through the 2024 fishing season. Quillback rockfish off California is an overfished stock. Vermilion/sunset rockfish is managed in a stock complex, however, fishing mortality for the stock has exceeded the harvest specification contributions to the complex for several years. The recommended actions would reduce fishing mortality of these species, while further narrowing the scope of restrictions and minimizing the economic impact to fishing communities to the extent possible. These included a recommendation to adjust the Non-Trawl RCA latitudinal boundaries for the area between lat. 40°10′ N and lat. 36° N (to utilize a boundary at lat. 37°07′ N rather than lat. 36° N), so that the area between lat. 37°07′ N and lat. 34°27′ N, from 50 to 75 fathoms (fm), would be closed to fishing, and in the area from lat. 40°10′ N to lat. 37°07′ N, the 3 nautical mile line to 75fm, would be closed to fishing. The recommended non-trawl boundaries, as well as those under current regulations are shown in tables 1a and 1b.

Table 1a—Non-Trawl Rockfish Conservation Area Boundaries, South of Lat. 40°10′ N: Current Regulation
Area (latitude) | Depth | Months
40°10′ N-36° N | Shoreward EEZ-75 fm line | January through December.
36° N-34°27′ N | 50-75 fm line | January through December.

Table 1b—Non-Trawl Rockfish Conservation Area Boundaries, South of Lat. 40°10′ N: Council Recommended
Area (latitude) | Depth | Months
40°10′ N-37°07′ N | Shoreward EEZ-75 fm line | January through December.
37°07′ N-34°27′ N | 50-75 fm line | January through December.

Trip Limits

The recommended modifications of the Non-Trawl RCA in California necessitated corresponding changes to the latitude lines designating area-specific LE and OA trip limits for lingcod, the other flatfish complex, and the minor shelf rockfish complex (defined at § 660.11), south of lat. 40°10′ N (table 2a).

For the minor shelf rockfish complex south of lat. 40°10′ N, in the LE fishery; in addition to exchanging the lat. 36° N boundary, in favor of the lat. 37°07′ N boundary, one latitudinal stratum was added with separate trip limits, dividing the area south of lat. 40°10′ N into three strata under Council recommendations, compared with two strata under current regulations. The new management area boundaries and corresponding trip limits for minor shelf rockfish are shown in table 2b.

For minor shelf rockfish south of lat. 40°10′ N, in the OA fishery; in addition to exchanging the lat. 36° N boundary, in favor of the lat. 37°07′ N boundary, one latitudinal stratum was added with separate trip limits, dividing the area south of lat. 40°10′ N into three strata under Council recommendations, compared with two strata under current regulations. The new management area boundaries and corresponding trip limits for minor shelf rockfish are shown in table 2b.

The Council's Groundfish Management Team (GMT) analyzed the combination of proposed changes (Agenda Item F.8.a Supplemental GMT Report 1, March 2024) to trip limit amounts, by area strata, for minor shelf rockfish south of lat. 40°10′ N. These combinations included a specifically designed balance of modest increases, as well as decreases, in trip limits, together with the changes to the Non-Trawl RCA boundaries. The GMT found in their analysis that quillback rockfish encounters between lat. 36° and 37°07′ N have been rare throughout the relevant time series. Only 0.7 percent of commercial quillback rockfish landings occurred south of lat. 37°07′ N over the most recent 5-year period (2019-2023), and only 3.7 percent over a much longer time series (1992-2022). As such, the changes in trip limits south of lat. 37°07′ N are congruent with both maintaining adequate access by commercial fishers to groundfish resources and the conservation needs of quillback rockfish off California, which was recently determined to be overfished (NMFS notified the Council of the overfished status determination for quillback rockfish on December 14, 2023; Agenda Item F.2, Attachment 2, March 2024), and maintaining catches of vermillion/sunset rockfish at a sustainable level (catches have been high since 2015).

Trip limits with corresponding areas are shown in Table 2. Recommended changes for the remaining lingcod, other flatfish complex, and minor shelf rockfish species did not involve any new limits themselves, only the redesignation of the latitudinal boundaries for existing limits, in accordance with the new recommended Non-Trawl RCA boundaries.

Table 2a—Trip Limits Under Current Regulation, and Council-Recommendations, for LE and OA Non-Trawl Fisheries, South of Lat. 40°10′ N: Current Regulation
Fleet | Species | Lat. area | Limit
LE | Lingcod | 40°10′ N-36° N | 1,600 lb (726 kg)/2 months seaward of the non-trawl RCA; 0 lb/2 months inside the non-trawl RCA.
|  | South of 36° N | 1,600 lb (726 kg)/2 months.
| Minor shelf rockfish | 40°10′ N-34°27′ N | 6,000 lb (2,722 kg)/2 months, of which no more than 500 lb (227 kg) may be vermilion/sunset.
|  | South of 34°27′ N | 6,000 lb (2,722 kg)/2 months, of which no more than 3,000 lb (1,361 kg) may be vermilion/sunset.
| Other flatfish | 40°10′ N-36° N | 10,000 lb (4,536 kg)/month seaward of the non-trawl RCA; 0 lb/month inside the non-trawl RCA.
|  | South of 36° N | 10,000 lb (4,536 kg)/month.
OA | Lingcod | 40°10′ N-36° N | 700 lb (318 kg)/2 months seaward of the non-trawl RCA; 0 lb/2 months inside the non-trawl RCA.
|  | South of 36° N | 700 lb (318 kg)/2 months.
| Minor shelf rockfish | 40°10′ N-36° N | 3,000 lb (1,361 kg)/2 months, of which no more than 300 lb (136 kg) may be vermilion/sunset.
|  | South of 36° N | 3,000 lb (1,361 kg)/2 months, of which no more than 900 lb (408 kg) may be vermilion/sunset.
| Other flatfish | 40°10′ N-36° N | 5,000 lb (2,268 kg)/month seaward of the non-trawl RCA; 0 lb/month inside the non-trawl RCA.
|  | South of 36° N | 5,000 lb (2,268 kg)/month.

Table 2b—Trip Limits Under Current Regulation, and Council-Recommendations, for LE and OA Non-Trawl Fisheries, South of Lat. 40°10′ N: Council Recommended
Fleet | Species | Area | Limit
LE | Lingcod | 40°10′ N-37°07′ N | 1,600 lb (726 kg)/2 months seaward of the non-trawl RCA; 0 lb/2 months inside the non-trawl RCA.
|  | South of 37°07′ N | 1,600 lb (726 kg)/2 months.
| Minor shelf rockfish | 40°10′ N-37°07′ N | 6,000 lb (2,722 kg)/2 months, of which no more than 500 lb (227 kg) may be vermilion/sunset.
|  | 37°07′ N-34°27′ N | 8,000 lb (3,629 kg)/2 months, of which no more than 500 lb (227 kg) may be vermilion/sunset.
|  | South of 34°27′ N | 5,000 lb (2,268 kg)/2 months, of which no more than 3,000 lb (1,361 kg) may be vermilion/sunset.
| Other flatfish | 40°10′ N-37°07′ N | 10,000 lb (4,536 kg)/month seaward of the non-trawl RCA; 0 lb/month inside the non-trawl RCA.
|  | South of 37°07′ N | 10,000 lb (4,536 kg)/month.
OA | Lingcod | 40°10′ N-37°07′ N | 700 lb (318 kg)/2 months seaward of the non-trawl RCA; 0 lb/2 months inside the non-trawl RCA.
|  | South of 37°07′ N | 700 lb (318 kg)/2 months.
| Minor shelf rockfish | 40°10′ N-37°07′ N | 3,000 lb (1,361 kg)/2 months, of which no more than 300 lb may be vermilion/sunset.
|  | 37°07′ N-34°27′ N | 4,000 lb (1,8141 kg)/2 months, of which no more than 300 lb may be vermilion/sunset.
|  | South of 34°27′ N | 3,000 lb (1,814 kg)/2 months, of which no more than 900 lb may be vermilion/sunset.
| Other flatfish | 40°10′ N-37°07′ N | 5,000 lb (2,268 kg)/2 months seaward of the non-trawl RCA; 0 lb/2 months inside the non-trawl RCA.
|  | South of 37°07′ N | 5,000 lb (2,268 kg)/month.

Pacific Halibut

At its March 2024 meeting, the Council also recommended new annual trip limit ratios for the incidental catch of Pacific halibut in the primary (tier) sablefish fishery north of Point Chehalis, Washington, starting for the 2024 season. These measures are reviewed each season. The Council recommended a trip limit ratio of 130 lb of dressed Pacific halibut per 1,000 lb of sablefish, plus two additional halibut for the primary fishery north of Point Chehalis, as recommended by the Council's Groundfish Advisory Subpanel (GAP). This trip limit is a reduction from last year when it was 150 lb of dressed Pacific halibut per 1,000 lb of sablefish. The GAP related during their discussion of this topic that this reduction was likely warranted given the reduction in the overall allocation for incidental catch in the sablefish fishery from 70,000 lbs in 2023 to 50,000 lbs in 2024 (89 FR 19275, March 18, 2024). Additionally, the GAP noted that it expects the new trip limit to be an adequate amount to utilize the overall allocation and prevent waste of bycatch. If necessary, incidental trip limits could be updated later in the year, by the Council, through inseason action.

California Recreational Groundfish Fisheries in Federal Waters

The Council recommended modifications to Federal regulations concerning the portion of the California recreational groundfish fishery that falls within Federal waters, consistent with California state regulations for the fishery. The State of California recently revised its state regulations, including changes to season dates and depth limits for the California rockfish, cabezon, and greenling (RCG) complex as well as for lingcod, and revising a sub-bag limit for vermilion/sunset rockfish south of lat. 40°10′ N. The Council recommended changes were presented to the Council by the California Department of Fish and Wildlife (CDFW) (Agenda Item F.8.a Supplemental CDFW Report 2 March 2024) in a request for consistent action in federal waters, discussed by the GMT, and recommended by the GAP (Agenda Item F.8.a Supplemental GAP Report 1 March 2024). The GMT did not analyze nor make a recommendation regarding CDFW's proposal. The federal regulations for the California recreational groundfish fishery for RCG and lingcod that were set at the beginning of 2023 are summarized in Table 3, inseason actions that were taken during 2023 are not incorporated. The Council recommended regulations for 2024 are summarized in Table 4. Table 3 and Table 4 are summaries only. Refer to 50 CFR 660.360(c)(3)(i)(A) for a detailed description of the California recreational groundfish fishery structure.

Classification

This final rule makes routine inseason adjustments to the Pacific Coast groundfish fishery management measures, based on the best scientific information available, consistent with the PCGFMP and its implementing regulations.

This action is taken under the authority of 50 CFR 660.60(c) and is exempt from review under Executive Order 12866.

The aggregate data upon which these actions are based are available for public inspection by contacting Dr. Sean Matson in NMFS West Coast Region (see FOR FURTHER INFORMATION CONTACT, above), or to view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. These revisions are in response to new information about the fishery, and to conservation issues that need to be addressed for the 2024 fishing year. The adjustments to management measures in this document increase trip limits and decrease size limits for fisheries off California to allow additional economic opportunity, while keeping catch within allocations established by the 2023-2024 harvest specifications. The GMT found in their analysis that the boundary change to the Non-Trawl RCA would likely result in an increase in lingcod, cabezon, other flatfish, minor nearshore, and minor shelf species catch from lat. 36° N to 37°07′ N, while minimizing impacts to quillback rockfish, and reducing catch of vermillion/sunset rockfish to sustainable levels, within that area. The risk of the changes established in this final rule resulting in exceedances of the corresponding harvest limits is low, and the risk to quillback rockfish is minimal, particularly in areas south of lat. 37°07′ N. At the same time, the changes would yield positive economic impacts to commercial non-trawl fishermen that fish in Federal waters in that area. This economic opportunity would not otherwise occur without the Non-Trawl RCA boundary move and the associated trip limit changes. This rule also makes Council recommended changes to regulations pertaining to the California recreational groundfish fishery within federally managed waters, in order to create consistency with current state regulations within California jurisdiction. This is necessary to ensure consistent management and enforcement across the state and federally managed fisheries. No aspect of this action is controversial, and changes of this nature were anticipated in the final rule for the 2023-2024 harvest specifications and management measures, which published on December 16, 2022 (87 FR 77007).

Trip limit ratios to cover incidental catch of Pacific halibut in the fixed gear sablefish primary (tier) fishery are set annually, in alignment with the overall allocation for incidental catch in this fishery that is established by NMFS in mid-March of each year. Halibut is internationally managed, with specifications that publish out of sync with groundfish regulations, and therefore measures to account for incidental catch in the sablefish fishery must be updated each year through inseason action. Updating these limits in a timely fashion is a critical conservation need in the West Coast LE sablefish primary (tier) fishery.

Delaying implementation of this rule to allow for public comment would have negative effects on the conservation of California quillback rockfish, which was recently determined to be overfished, as well as the conservation of vermilion/sunset rockfish, whose catch has been unsustainably high in recent years. Delay in implementation would also likely reduce the economic benefits to the commercial fishing industry and the businesses that rely on that industry, because it is unlikely the new regulations would publish and could be implemented in time to realize the projected benefits to fishing communities and the resource. A delay in implementation could also contribute to unnecessarily discarded and largely wasted fish; fish which could otherwise be landed to provide food and revenue, and whose use would assist in the responsible use of the resource. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect fisheries by increasing opportunity and allowing greater economic benefit. These adjustments were requested by the Council's advisory bodies, as well as by members of industry during the Council's March 2024 meeting, and the changes are recommended unanimously by the Council. No aspect of this action is controversial, and changes of this nature were anticipated in the biennial harvest specifications and management measures established through a notice and comment rulemaking for 2023-2024 (87 FR 77007).

List of Subjects in 50 CFR Part 660

Fisheries, Fishing, Indian fisheries.

Carrie Diane Robinson,
Acting Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.231, revise paragraph (b)(3)(iv) to read as follows:

* * * * *

(b) * * *

(3) * * *

(iv) Incidental Pacific halibut retention north of Pt. Chehalis, WA (46°53.30′ N lat.). From April 1 through the closure date set by the International Pacific Halibut Commission for Pacific halibut in all commercial fisheries, vessels authorized to participate in the sablefish primary fishery, licensed by the International Pacific Halibut Commission for commercial fishing in Area 2A (waters off Washington, Oregon, California), and fishing with longline gear north of Pt. Chehalis, WA (46°53.30′ N lat.) may possess and land up to 130 lb (59 kg) dressed weight of Pacific halibut for every 1,000 lb (454 kg) dressed weight of sablefish landed, and up to two additional Pacific halibut in excess of the 130-lbs-per-1,000-lb limit per landing. NMFS publishes the International Pacific Halibut Commission's regulations setting forth annual management measures, including the closure date for Pacific halibut in all commercial fisheries, in the Federal Register by March 15 each year, 50 CFR 300.62. “Dressed” Pacific halibut in this area means halibut landed eviscerated with their heads on. Pacific halibut taken and retained in the sablefish primary fishery north of Pt. Chehalis may only be landed north of Pt. Chehalis and may not be possessed or landed south of Pt. Chehalis.

* * * * *

3. Revise table 2 (South) to part 660, subpart E, to read as follows:

BILLING CODE 3510-22-P

4. Revise table 3 (South) to part 660, subpart F, to read as follows:

BILLING CODE 3510-22-C

5. In § 660.360, revise paragraphs (c)(3)(i)(A)(1) through (5), (c)(3)(ii)(A)(1) through (5), (c)(3)(ii)(B), and (c)(3)(iii)(A)(1) through (5) to read as follows:

§ 660.360 Recreational fishery—management measures.

* * * * *

(c) * * *

(3) * * *

(i) * * *

(A) * * *

(1) Between 42° N lat. (California/Oregon border) and 40°10′ N lat. (Northern Management Area), recreational fishing for the RCG Complex and lingcod is closed in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31.

(2) Between 40°10′ N lat. and 38°57.50′ N lat. (Mendocino Management Area), recreational fishing for the RCG Complex and lingcod is closed from in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31.

(3) Between 38°57.50′ N lat. and 37°11′ N lat. (San Francisco Management Area), recreational fishing for the RCG Complex and lingcod is closed in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31. Closures around Cordell Bank (see paragraph (c)(3)(i)(C) of this section) also apply in this area.

(4) Between 37°11′ N lat. and 34°27′ N lat. (Central Management Area),

(i) Between 37°11′ N lat. and 36° N lat., recreational fishing for the RCG Complex and lingcod is closed in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31.

(ii) Between 36° N lat. and 34°27′ N lat., recreational fishing for the RCG Complex and lingcod is closed from January 1 through March 31, is open at all depths from April 1 through June 30; is prohibited in the EEZ seaward of a boundary line approximating the 50 fm (91 m) depth contour along the mainland coast and along islands and offshore seamounts from July 1 through September 30, and is prohibited in the EEZ shoreward of a boundary line approximating the 50 fm (91 m) depth contour along the mainland coast and along islands and offshore seamounts from October 1 through December 31.

(5) South of 34°27′ N lat. (Southern Management Area), recreational fishing for the RCG Complex and lingcod is closed from January 1 through March 31, open at all depths from April 1 through June 30; is prohibited in the EEZ seaward of a boundary line approximating the 50 fm (91 m) depth contour along the mainland coast and along islands and offshore seamounts from July 1 through September 30, and is prohibited in the EEZ shoreward of a boundary line approximating the 50 fm (91 m) depth contour along the mainland coast and along islands and offshore seamounts from October 1 through December 31.

* * * * *

(ii) * * *

(A) * * *

(1) Between 42° N lat. (California/Oregon border) and 40°10′ N lat. (Northern Management Area), recreational fishing for the RCG Complex and lingcod is closed in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31.

(2) Between 40°10′ N lat. and 38°57.50′ N lat. (Mendocino Management Area), recreational fishing for the RCG Complex and lingcod is closed from in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31.

(3) Between 38°57.50′ N lat. and 37°11′ N lat. (San Francisco Management Area), recreational fishing for the RCG Complex and lingcod is closed in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31. Closures around Cordell Bank (see paragraph (c)(3)(i)(C) of this section) also apply in this area.

(4) Between 37°11′ N lat. and 34°27′ N lat. (Central Management Area),

(i) Between 37°11′ N lat. and 36° N lat., recreational fishing for the RCG Complex and lingcod is closed in the EEZ from January 1 through March 31, is prohibited in the EEZ shoreward of the boundary line approximating the 50 fm (91 m) depth contour along the mainland coast and along islands and offshore seamounts from April 1 through April 30, is closed in the EEZ from May 1 to September 30, is prohibited in the EEZ shoreward of the boundary line approximating the 50 fm (91 m) depth contour along the mainland coast and along islands and offshore seamounts from October 1 through October 31, closed in the EEZ from November 1 through November 30, and prohibited in the EEZ shoreward of the boundary line approximating the 50 fm (91 m) depth contour along the mainland coast and along islands and offshore seamounts from December 1 through December 31.

(ii) Between 36° N lat. and 34°27′ N lat., recreational fishing for the RCG Complex and lingcod is closed from January 1 through March 31, is open at all depths from April 1 through June 30; is prohibited in the EEZ seaward of a boundary line approximating the 50 fm (91 m) depth contour along the mainland coast and along islands and offshore seamounts from July 1 through September 30, and is prohibited in the EEZ shoreward of a boundary line approximating the 50 fm (91 m) depth contour along the mainland coast and along islands and offshore seamounts from October 1 through December 31.

(5) South of 34°27′ N lat. (Southern Management Area), recreational fishing for the RCG Complex and lingcod is closed from January 1 through March 31, open at all depths from April 1 through June 30; is prohibited in the EEZ seaward of a boundary line approximating the 50 fm (91 m) depth contour along the mainland coast and along islands and offshore seamounts from July 1 through September 30, and is prohibited in the EEZ shoreward of a boundary line approximating the 50 fm (91 m) depth contour along the mainland coast and along islands and offshore seamounts from October 1 through December 31.

(B) Bag limits, hook limits. In times and areas when the recreational season for the RCG Complex is open, there is a limit of two hooks and one line when fishing for the RCG complex. The bag limit is 10 RCG Complex fish per day coastwide, with a sub-bag limit of 4 fish for vermilion rockfish between 42° N lat. and 40°10 N lat., a sub-bag limit of 2 fish for vermilion/sunset rockfish south of 40°10 N lat., and 1 fish for copper rockfish. These sub-bag limits count towards the bag limit for the RCG Complex and are not in addition to that limit. Retention of yelloweye rockfish, bronzespotted rockfish, quillback rockfish, and cowcod is prohibited. Multi-day limits are authorized by a valid permit issued by California and must not exceed the daily limit multiplied by the value of days in the fishing trip.

* * * * *

(iii) * * *

(A) * * *

(1) Between 42° N lat. (California/Oregon border) and 40°10′ N lat. (Northern Management Area), recreational fishing for lingcod in the EEZ is open from April 1 through April 30, October 1 through October 31, and December 1 through December 31 (i.e., recreational fishing for lingcod in the EEZ is closed from January 1 through March 31, May 1 through September 30, and November 1 through November 30).

(2) Between 40°10′ N lat. and 38°57.50′ N lat. (Mendocino Management Area), recreational fishing for lingcod in the EEZ is open from April 1 through April 30, October 1 through October 31, and December 1 through December 31 (i.e., recreational fishing for lingcod in the EEZ is closed from January 1 through March 31, May 1 through September 30, and November 1 through November 30).

(3) Between 38°57.50′ N lat. and 37°11′ N lat. (San Francisco Management Area), recreational fishing for lingcod in the EEZ is open from April 1 through April 30, October 1 through October 31, and December 1 through December 31 (i.e., recreational fishing for lingcod in the EEZ is closed from January 1 through March 31, May 1 through September 30, and November 1 through November 30).

(4) Between 37°11′ N lat. and 34°27′ N lat. (Central Management Area),

(i) Between 37°11′ N lat. and 36° N lat., recreational fishing for lingcod in the EEZ is open from April 1 through April 30, October 1 through October 31, and December 1 through December 31 (i.e., recreational fishing for lingcod is closed in the EEZ from January 1 through March 31, May 1 through September 30, and November 1 through November 30).

(ii) Between 36° N lat. and 34°27′ N lat., recreational fishing for lingcod in the EEZ is open from April 1 through December 31 (i.e., recreational fishing for the lingcod in the EEZ is closed from January 1 through March 31).

(5) South of 34°27′ N lat. (Southern Management Area), recreational fishing for lingcod in the EEZ is open from April 1 through December 31 (i.e., recreational fishing for lingcod in the EEZ is closed from January 1 through March 31).

* * * * *

[FR Doc. 2024-06775 Filed 3-29-24; 8:45 am]

BILLING CODE 3510-22-P